COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products and services previously furnished by such agencies.

DATES: Comments must be received on or before: December 9, 2018.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the service listed below from a nonprofit agency employing persons who are blind or have other severe disabilities.

The following service is proposed for addition to the Procurement List for production by the nonprofit agency listed:

Service Type: Total Facility Management Service

Mandatory for: U.S. Coast Guard, U.S. Coast Guard Training Center (TRACEN), U.S. Coast Guard Training Center, Yorktown, VA

Mandatory Source of Supply: Skookum Educational Programs, Bremerton, WA

Contracting Activity: U.S. Coast Guard SILC BSS

Deletions

The following products and services are proposed for deletion from the Procurement List:

Products

NSN(s)—Product Name(s):

6645-01-623-8819—Clock, Wall, Quartz, Mahogany, 15.5″ Diameter

6645-01-623-8820—Clock, Wall, Self-Set, Mahogany, 15.5″ Diameter

6645-01-623-8821—Clock, Wall, Quartz, Custom Logo, Mahogany, 15.5″ Diameter

6645-01-623-8822—Clock, Wall, Self-Set, Custom Logo, Mahogany, 15.5″ Diameter

6645-01-557-3159—Clock, Wall, Self-Set, Bronze, 8″ Diameter

6645-01-557-8132—Clock, Wall, Self-Set, Custom Logo, Bronze, 8″ Diameter

Mandatory Source of Supply: Chicago Lighthouse Industries, Chicago, IL

Contracting Activity: GSA/FAS ADMIN SVCS ACQUISITION BR(2), NEW YORK, NY

NSN(s)—Product Name(s):

MR 440—Candle, Soy, Vanilla Cupcake Scented, 8.5oz

MR 441—Candle, Soy, Berry Fusion Scented, 8.5oz

MR 442—Candle, Soy, Cinnamon Apple Scented, 8.5oz

MR 444—Candle, Soy, Macintosh Apple Scented, 8.5oz

MR 446—Candle, Soy, Caribbean Breezes Scented, 8.5oz

MR 357—Tumblers, Red, White and Blue, Includes Shipper 10357

Mandatory Source of Supply: Industries for the Blind and Visually Impaired, Inc., West Allis, WI

Contracting Activity: Defense Commissary Agency

Services

Service Type: Janitorial/Custodial Service

Mandatory for:

U.S. Army Reserve Center: 5200 Wissahickon Avenue, Philadelphia, PA

U.S. Army Reserve Center: 500 W. 24th Street, Chester, PA

Mandatory Source of Supply: The Chimes, Inc., Baltimore, MD

Contracting Activity: Dept of the Army, W40M Northeregion Contract OFC

Service Type: Janitorial/Custodial Service

Mandatory for: U.S. Army Reserve Center: 1750 East 29th Street Tucson, AZ

Mandatory Source of Supply: Catholic Community Services of Southern Arizona, Tucson, AZ

Contracting Activity: Dept of the Army, W40M Northeregion Contract OFC

Service Type: Grounds Maintenance Service

Mandatory for: Naval Support Activity: 2300 General Meyers Avenue 2300 General Meyers Avenue Algiers, LA

Mandatory Source of Supply: Goodworks, Inc., New Orleans, LA

Contracting Activity: Dept of the Navy, NAVFAC Southeast

Service Type: Janitorial/Custodial Service

Mandatory for: Navy Aviation Supply Office: Buildings 3A, 3B, 3C, 3D, 4A, 5A, 5B, 36/1, 36/2, 36/3, and 11 Trailers Philadelphia, PA

Mandatory Source of Supply: The Chimes, Inc., Baltimore, MD

Contracting Activity: Dept of the Navy, U.S. Fleet Forces Command

Service Type: Facilities Maintenance Service

Mandatory for: Mississippi Air National Guard: ANG CRTC/LGC 4715 Hewes Avenue, Building 1 Gulfport, MS

Mandatory Source of Supply: Mississippi Goodworks, Inc., Gulfport, MS

Contracting Activity: Dept of Defense, DOD/OFF of Secretary of DEF (EXC MIL DEPTS)

Service Type: Janitorial/Custodial Service

Mandatory for: New Orleans Naval Support Activity: (basewide except Commissary & Exchange facilities) New Orleans, LA

Mandatory Source of Supply: Goodworks, Inc., New Orleans, LA

Contracting Activity: Dept of the Navy, NAVFAC Southeast

Service Type: Grounds Maintenance Service

Mandatory for: Fort Ord Fort Ord, CA

Mandatory Source of Supply: UNKNOWN

Contracting Activity: Dept of the Army, W40M Northeregion Contract OFC

Michael R. Jurkowski,
Business Management Specialist, Business Operations.

[FR Doc. 2018-24584 Filed 11-8-18; 8:45 am]

BILLING CODE 6353-01-P